DEPARTMENT OF TRANSPORTATION

Federal Aviation Administration

Notice of Modification to Previously Published Notice of Intent To Prepare an Environmental Assessment

AGENCY: Federal Aviation Administration (FAA), DOT.

ACTION: Notice.

SUMMARY: The FAA is publishing this notice to advise the public of a modification to the Notice of Intent to Prepare an Environmental Assessment (EA) and notice of opportunity for public comment published in the Federal Register on April 21, 2014. Specifically, FAA is withdrawing a Terminal Area Apron Expansion Project from the scope of the EA, and the project will be subject instead to a discrete environmental review.

FOR FURTHER INFORMATION CONTACT: Parks Preston, Assistant Manager, Atlanta Airports District Office, 1701 Columbia Avenue, Room 220, College Park, Georgia 30337-2747, (404) 305-6799.

SUPPLEMENTARY INFORMATION: Paulding Northwest Atlanta Airport (PUJ) is located outside Atlanta, Georgia, in the town of Dallas, Georgia. Paulding County and the Paulding County Airport Authority (PCAA) own the airport. PUJ opened in 2008 and is designated as a general aviation airport. An EA for the construction of PUJ was completed in 2005. The 2005 EA evaluated the future Terminal Area Apron Expansion. In 2011, PUJ owners redesigned the Terminal Area Apron Expansion and conducted a supplemental environmental assessment (SEA) to consider potential environmental impacts associated with the revised project. The Georgia Department of Transportation (GDOT), as authorized by the FAA's State Block Grant Program, issued a Finding of No Significant Impact (FONSI), and the FAA issued a Record of Decision on the SEA in March 2011.

In September 2013, the PCAA submitted an application to the FAA requesting an Airport Operating Certificate under title 14 Code of Regulations, Part 139. A Part 139 Airport Operating Certificate allows the airport to accommodate scheduled passenger-carrying operations, commonly referred to as “commercial service.” In November 2013, several Paulding County residents filed a Petition for Review in the United States Court of Appeals for the District of Columbia of two categorical exclusions issued by GDOT for airfield improvement projects. The petitioners argued that the two projects were connected to the proposed introduction of commercial service at PUJ. On December 23, 2013, the petitioners and the FAA entered into a settlement agreement under which the FAA agreed to prepare, at a minimum, an EA for the proposed Part 139 Airport Operating Certificate and all connected actions. The FAA is currently in the process of preparing that EA (current EA). While the settlement agreement contemplated that the current EA would include all actions connected with the proposed issuance of the Part 139 Airport Operating Certificate, the FAA opted to include in the current EA all reasonably foreseeable airport improvement projects, whether or not connected with the proposed introduction of commercial service.

On April 21, 2014, the FAA published a “Notice of Intent to Prepare an Environmental Assessment and Notice of Opportunity for Public Comment” in the Federal Register, 79 FR 22177. The Notice of Intent identified all of the projects intended to be reviewed in the EA, including “construct[ion of] a terminal area expansion to provide hangars and apron area” which is the Terminal Area Apron Expansion Project. FAA Order 1050.1F, Environmental Impacts: Policies and Procedures, requires that where major steps toward implementation of the proposed action have not commenced within 3 years from the date of the issuance of an environmental finding, further environmental review is required. The current EA was to include the Terminal Area Apron Expansion Project because major steps toward implementation of the project had not been undertaken since the issuance of the FONSI in March 2011.

PUJ owners now desire to move forward with the Terminal Area Apron Expansion Project more expeditiously than will be possible if the project remains within the scope of the current EA. The primary need for expediting this project is the approaching expiration of a permit for the project issued by the U.S. Army Corps of Engineers under section 404 of the Clean Water Act.

In accordance with FAA Order 1050.1F, where major steps toward implementation of a proposed action have not commenced within 3 years from the date of the issuance of a FONSI, a written reevaluation may be prepared. In this case, the general aviation apron has independent utility, is not connected to the Part 139 Airport Operating Certificate, and is therefore not required by the National Environmental Policy Act or the terms of the 2013 settlement agreement to be included in the EA. Accordingly, the current EA will no longer consider direct impacts of the Terminal Area Apron Expansion Project, but will address potential cumulative impacts associated with the project.

To satisfy the requirements of FAA Order 1050.1F, GDOT has prepared a written reevaluation of the project, and FAA concurred. The written reevaluation is available for review at PUJ and online at http://www.paulding.gov/DocumentCenter/View/5935.

Issued in Atlanta, Georgia, on August 28, 2017.
Larry F. Clark,
Manager, Atlanta Airports District Office, Southern Region.

[FR Doc. 2017-18920 Filed 9-5-17; 8:45 am]

BILLING CODE 4910-13-P